DEPARTMENT OF HEALTH AND HUMAN SERVICES

Administration for Children and Families

Head Start Bureau; Advisory Committee on Head Start Research and Evaluation; Meeting

AGENCY: Administration on Children, Youth and Families, ACF, DHHS.

ACTION: Notice of meeting; Advisory Committee on Head Start Research and Evaluation.

SUMMARY: The 1998 Head Start Reauthorization (42 U.S.C. 9844(g); section 649(g)(1) of the Head Start Act, as amended) called on the Secretary of Health and Human Services to form an independent panel of experts (i.e., an Advisory Committee) to offer advice concerning research designs that would provide a national analysis of the impact of Head Start Programs. The January 12, 2001 meeting provides an opportunity for the Advisory Committee to receive an update on the design and implementation plans for the study.

DATES: January 12, 2001, 8:30 a.m.-4 p.m.

PLACE: Hilton Washington Embassy Row, 2015 Massachusetts Avenue, NW., Washington, DC 20036. Telephone 202-265-1600. Fax: 202-328-7526.

SUPPLEMENTARY INFORMATION: This meeting is open to the public and is barrier free. Meeting records will also be open to the public and will be kept at the Switzer Building located at 330 C Street, SW., Washington, DC 20447. The Head Start Bureau also intends to make material related to this meeting available on the Head Start website (http://www2.acf.dhhs.gov/programs/hsb/hsreac). An interpreter for the deaf and hearing impaired will be available upon advance request by calling Ellsworth Associates at 703/821-3090 (ext. 282).

FOR FURTHER INFORMATION CONTACT: Michael L. Lopez, Ph.D. at 202-205-8212 for substantive information. ACF Office of Public Affairs at 202/401-9215 for press inquiries. Ellsworth Associates at 703/821-3090 (ext. 282) for logistical information.

Dated: December 27, 2000.
James A. Harrell,
Acting Commissioner, Administration on Children, Youth and Families.

[FR Doc. 01-80 Filed 1-2-01; 8:45 am]

BILLING CODE 4184-01-M